GOVERNMENT PRINTING OFFICE

Depository Library Council to the Public Printer Meeting

The Depository Library Council to the Public Printer (DLC) will meet on Sunday, April 17, 2005, through Wednesday, April 20, 2005, in Albuquerque, New Mexico. The sessions will take place from 8 a.m. to 5 p.m. on Sunday through Tuesday, and 8 a.m. to 12 noon on Wednesday. The meeting will be held at the Sheraton Old Town Hotel, 800 Rio Grande Blvd. NW., Albuquerque, New Mexico. The purpose of this meeting is to discuss the Federal Depository Library Program. All sessions are open to the public.

There are no more sleeping rooms available at the Sheraton Old Town Hotel for the Government rate of $68 per night. We have made arrangements with the Best Western Rio Grande Inn to get additional sleeping rooms for our attendees. The Best Western Rio Grande Inn has offered us rooms from Saturday, April 16 through Wednesday, April 20. Rates will be $68 per night (plus tax) single or double. This rate will be honored through March 18, 2005.

You can reserve your room by calling the hotel directly at 505-843-9500 and mention that you are with the U.S. Government Printing Office group. The Best Western Grande Inn is in compliance with the requirements of Title III of the Americans With Disabilities Act and meets all Fire Safety Act regulations.

William H. Turri,
Deputy Public Printer.

[FR Doc. 05-3600 Filed 2-24-05; 8:45 am]

BILLING CODE 1520-01-P